DEPARTMENT OF AGRICULTURE

Forest Service

Notice of New Fee Site; Federal Lands Recreation Enhancement Act, (Title VIII, Pub. L. 108-447)

AGENCY: Sequoia National Forest, USDA Forest Service.

ACTION: Notice of new fee sites

SUMMARY: The Sequoia National Forest is proposing to charge a $175, $200, and $250 per night fee for the overnight rental of three cabins located on newly acquired National Forest System lands known as Upper Grouse Valley in the Giant Sequoia National Monument. These three cabins have not been available for public recreation use prior to this date. Rentals of other cabins on the Sequoia National Forest have shown that people appreciate and enjoy the availability of rental cabins. Funds from these rentals will be used for the continued operation and maintenance of the cabins and improvements. If there are excess funds, they will be used to improve the quality of the experience for visitors to the Giant Sequoia Monument. Improvements considered would include the development of interpretive opportunities, trails, and conservation programs focusing on bringing underrepresented youth to the Monument.

DATES: It is anticipated that the Upper Grouse Valley Cabins will become available for recreation rental April 1, 2010.

ADDRESSES: Forest Supervisor, Sequoia National Forest, 1839 South Newcomb Street, Porterville, California, 93257.

FOR FURTHER INFORMATION CONTACT: Mary Cole, Recreation Fee Coordinator, 559-784-1500, extension 1133.

SUPPLEMENTARY INFORMATION: The Federal Recreation Lands Enhancement Act (Title VII, Pub. L. 108-447) directed the Secretary of Agriculture to publish a six month advance notice in the Federal Register whenever new recreation fee areas are established. This proposed new fee will be reviewed by a Recreation Resource Advisory Committee prior to a final decision and implementation.

The Sequoia National Forest currently has three other overnight rentals under the Federal Lands Recreation Enhancement Act and five cabin rentals under concessionaire management. These rentals are often fully booked throughout the rental season. A business analysis of the Upper Grouse Valley cabins showed that people desire having this sort of recreation experience on the Sequoia National Forest. A market analysis indicates that the $175, $200, and $250 per night fee is both reasonable and acceptable for these cabins given the unique recreation experience, amenities and services provided. People wanting to rent the Upper Grouse Valley cabins will need to do so through the National Recreation Reservation Service, at www.recreation.gov or by calling 1-877-444-6777. The National Recreation Reservation Service charges a $9 fee for reservations made through the internet or $10 for reservations made through the call center.

Dated: June 16, 2009.
Tina J. Terrell,
Forest Supervisor, Sequoia National Forest.

[FR Doc. E9-14667 Filed 6-23-09; 8:45 am]

BILLING CODE 3410-11-M